DEPARTMENT OF THE INTERIOR

Bureau of Land Management

[PO4820000251]

Rocky Mountain Resource Advisory Council Announces 2025 Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Rocky Mountain Resource Advisory Council (RAC) is announcing its 2025 meeting dates.

DATES: The Rocky Mountain RAC will meet virtually on February 13, 2025, from 9 a.m. to noon Mountain Time (MT); meet in person with a virtual participation option on June 26, 2025, from 10 a.m. to 4 p.m. MT, and participate in a field tour on June 27, 2025, from 9 a.m. to noon MT; and meet virtually on October 23, 2025, from 9 a.m. to noon MT. The meetings and field tour are open to the public.

ADDRESSES: The Feb. 13 meeting will be held virtually on the Zoom platform.

The June 26 meeting and the field tour will commence and conclude at the Royal Gorge Field Office, 3028 E Main Street, Canon City, CO 81212, as well as virtually through the Zoom platform. The Oct. 23 meeting will be held virtually on the Zoom platform.

Registration, participation guidelines, and final agendas for all meetings will be available on the RAC's web page 30 days in advance of the meetings at https://www.blm.gov/get-involved/resource-advisory-council/near-you/colorado/rocky-mountain-rac.

FOR FURTHER INFORMATION CONTACT: Levi Spellman, Public Affairs Specialist; BLM Rocky Mountain District Office, 3028 E Main St., Canon City, CO, 81212; telephone: (719) 269-8553; email: lspellman@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member Rocky Mountain RAC advises the Secretary of the Interior, through the BLM, on a variety of public land issues in the Rocky Mountain District of Colorado, including the Royal Gorge Field Office, San Luis Valley Field Office, and Browns Canyon National Monument. Agenda topics for each meeting will include field office updates, and a time reserved for open discussion, followed by a public comment period. Comments may be limited due to time constraints. The June 27 field tour will be to sites within the Royal Gorge Field Office. Members of the public are welcome to participate but must provide their own transportation and meals.

The public may present written comments to the Rocky Mountain RAC at least two weeks in advance of the meeting to the contact listed in the FOR FURTHER INFORMATION CONTACT section of this notice. Please include “RAC Comment” in your submission. Before including your address, phone number, email address, or other personal identifying information in your comment, please be aware that your entire comment—including your personally identifying information—may be made publicly available at any time. While individuals may request their personally identifying information to be withheld from public view, we cannot guarantee that we will be able to do so.

Requests for Accommodations: Please make requests in advance for sign language interpreter services, assistive listening devices, language translation services, or other reasonable accommodations. We ask that you contact the person listed in the FOR FURTHER INFORMATION CONTACT section of this notice at least 14 business days prior to the meeting to give the Department of the Interior sufficient time to process your request. All reasonable accommodation requests are managed on a case-by-case basis.

Summary minutes for the RAC meetings will be maintained in the Rocky Mountain District Office and will be available for public inspection and reproduction during regular business hours within 90 days following the meeting. Previous minutes and agendas are also available on the RAC's web page listed in the ADDRESSES section of this notice.

(Authority: 43 CFR 1784.4-2)

Douglas J. Vilsack,
BLM Colorado State Director.

[FR Doc. 2025-00216 Filed 1-7-25; 8:45 am]

BILLING CODE 4331-16-P